DEPARTMENT OF COMMERCE

National Oceanic and Atmospheric Administration

50 CFR Part 600

[I.D. 073002C]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Northeast Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The EFP would allow for exemptions from the Gulf of Maine (GOM) cod landing exemption certificate requirement for vessels fishing in the Georges Bank Regulated Mesh Area (GB RMA); the landing and possession limit restriction for GB cod; the requirement to possess on board an exemption certificate to fish for, possess, or land yellowtail flounder, minimum mesh size requirements for the GB RMA and minimum fish size requirements specified for the temporary retention of undersized fish for data collection purposes.

Regulations under the Magnuson-Stevens Fishery Conservation and Management Act require publication of this notification to provide interested parties the opportunity to comment on applications for proposed EFPs.

DATES: Comments on this document must be received on or before August 29, 2002.

ADDRESSES: Written comments should be sent to Patricia A. Kurkul, Regional Administrator, National Marine Fisheries Service, Northeast Regional Office, 1 Blackburn Drive, Gloucester, MA 01930. Mark the outside of the envelope “Comments on URI Large Codend Mesh Size Selectivity EFP Proposal.” Comments may also be sent via facsimile (fax) to (978) 281-9135.

FOR FURTHER INFORMATION CONTACT: Bonnie L. Van Pelt, Fishery Policy Analyst, 978-281-9244.

SUPPLEMENTARY INFORMATION: An application for an EFP was submitted by URI on June 18, 2002, with a final submission on June 24, 2002. The EFP would facilitate the collection of data on mesh sizes and shapes that are the same or larger than those currently required by regulation to provide mesh size selectivity curves for commercially important groundfish species. These data would be used to conduct YPR and SSBPR analyses to determine optimal yields (overall and per recruit) for each species targeted by the larger mesh sizes, including 6.5-, 7.0-, and 8.0-inch square and diamond shaped (16.5, 17.8, and 20.3 cm, respectively) mesh codends. The results of the study would be presented to resource managers (New England Fisheries Management Council, NMFS, state agencies, and others) and fishers in various fora, as requested, and allow these groups to evaluate the potential conservation equivalencies resulting from increases in codend mesh size.

The EFP would cover the period September 1, 2002, through December 31, 2002; however, the field sampling portion of the mesh selectivity study would require 15 days at sea on board one commercial fishing vessel. The experiment proposes to conduct mesh selectivity studies with current minimum mesh sizes/shapes, as well as larger mesh size codends to develop selectivity curves for four species of regulated groundfish, including Atlantic cod, haddock, winter flounder, and yellowtail flounder on GB. This information would be integrated into yield per recruit (YPR) and spawning stock biomass per recruit (SSBPR) analyses to determine whether incremental increases in mesh size could reduce growth overfishing and improve percent spawning stock biomass. That is, the study would attempt to determine if increasing mesh size would decrease fishing mortality on younger-aged fish in the stock and increase the number of age classes in the stock for greater overall yields of commercially important Northeast (NE) multispecies. While these yields may not be realized immediately, the experiment proposes to conduct an outreach program to educate fisheries managers and fishers on the benefits and costs associated with increasing mesh size based on the results of industry-cooperative mesh selectivity studies in the region. The EFP would allow these exemptions for one commercial vessel, for not more than 15 days of sea trials. All experimental work would be monitored by University of Rhode Island (URI) scientists/observers.

The experimental tows would be conducted by alternating “experimental” mesh sizes (i.e., mesh size larger than that currently regulated under the FMP and mesh sizes that are currently in use), with small mesh control codends (3-inch (7.62 cm)) within the GB RMA. The experimental protocol would require 9 tows of 2 hour duration per day, thus including the 6 experimental codends and 3 control codends in a randomly selected sequence for 15 days of sea trials (roughly 60 experimental tows required). The anticipated bycatch of regulated species incidental to the catch of target species retained by all experimental codends (6 tows per day) is expected to be minimal. For those control tows using small mesh (3 per tows day) the proposal estimated a 50% discard rate of sub-legal size fish. Total catch rates were estimated at 10,000 lb (4,536 kg) per day, of which 2,000-4,000 lb (907-1814 kg) would be discarded and 6,000-8,000 lb (2722-3629 kg) would be retained. The percent composition of species in the total catch, including discards is 30% Atlantic cod (3,000 lb (1361 kg) per day total catch), 30% winter flounder (3,000 lb (1361 kg) per day total catch), 20% yellowtail flounder (2,000 lb (907 kg) per day total catch), and 20% haddock (2,000 lb (907 kg) per day total catch).

The participating vessel would be required to report all regulated species catch retained for commercial sale in its Vessel Trip Report. During the sea trial phase each data collection trip would have a URI sea sampler/scientist on board and the catch would be measured according to NMFS sea sampling methodology and recorded on NMFS logbooks. Any sub-legal sized fish would be processed by the sea samplers (e.g., measured and recorded) and returned immediately to the water. The results of the analysis phase would be summarized in a report that presents selectivity curves for each species according to mesh size and shape, and the results of the YPR and SSBPR analyses including isopleth diagrams. The collection of mesh size selectivity data for mesh sizes at or above the current minimum is expected to increase our understanding of factors that may effect sustainable stock production due to growth overfishing and the potential to increase spawning stock biomass.

An exemption from the requirement to carry an exemption certificate to fish for, possess, and land NE multispecies that are harvested from the GB RMA (i.e., Atlantic cod and yellowtail flounder) is necessary because the work may involve exceeding the applicable landing and/or possession limit restrictions for these species. The applicant has justified the number of trips (i.e., the level of catch) in terms of a target sample size that if not reached may not yield meaningful results. The Regional Administrator is seeking comments on this aspect of the request.

The EFP would exempt one federally permitted commercial fishing vessel from certain requirements of the NE Multispecies FMP. Specifically, the vessel would be exempt from the requirement to carry a GOM cod exemption certificate to fish for, possess, and land cod in excess of the GOM cod landing limits while fishing in the GB RMA, the GB cod landing and possession limit restrictions (50 CFR 648.86(b)(2)), the requirement to possess on board an exemption certificate to fish for, possess, or land yellowtail flounder in the GB RMA (50 CFR 648.86(h)(1)(i)), to temporarily possess regulated species less than the minimum fish size, and to fish with mesh less than the minimum mesh size specified at 50 CFR part 648, subpart F.

Based on the results of this EFP, this action may lead to future rulemaking.

Authority: 16 U.S.C. 1801 et seq.

Dated: August 8, 2002.
Virginia M. Fay,
Acting Director, Office of Sustainable Fisheries, National Marine Fisheries Service.

[FR Doc. 02-20652 Filed 8-13-02; 8:45 am]

BILLING CODE 3510-22-S